DEPARTMENT OF TRANSPORTATION

[DOT Docket No. DOT-OST-2010-0074]

The Future of Aviation Advisory Committee (FAAC) Subcommittee on Labor and World-Class Workforce; Notice of Meeting

AGENCY: Office of the Secretary of Transportation, Department of Transportation.

ACTION: The Future of Aviation Advisory Committee (FAAC) Subcommittee on Labor and World-class Workforce; Notice of Meeting.

SUMMARY: The Department of Transportation (DOT), Office of the Secretary of Transportation, announces a meeting of the FAAC Subcommittee on Labor and World-class Workforce, which will be held via teleconference. A call-in number and pass code will be issued upon registration. This notice announces the date and time of the meeting, which will be open to the public. The purpose of the FAAC is to provide advice and recommendations to the Secretary of Transportation to ensure the competitiveness of the U.S. aviation industry and its capability to effectively manage the evolving transportation needs, challenges, and opportunities of the global economy. The subcommittee is charged with ensuring the availability and quality of a workforce necessary to support a robust, expanding commercial aviation industry in light of the changing socio-economic dynamics of the world's technologically advanced economies. Among other matters, the subcommittee will examine three issues affecting the future employment requirements of the aviation industry: (1) The need for science, technology, engineering, and math skills in the industry; (2) the creation of a culture of dignity and respect in workplace; and (3) the effect of NextGen on various workforces. This teleconference meeting is solely for discussion with Joshua Mr. M. Javits, a professional arbitrator and mediator, who has mediated a number of air carrier labor-management disputes. He is a former chairman and member of the National Mediation Board. Mr. Javits is the owner of Dispute Resolution Services, an “Alternative Dispute Resolution” firm dedicated to providing clients with cost-effective resolution of disputes, as well as conflict prevention, system design, training and fact-finding services.

DATES: The meeting will be held on October 1, 2010, from 1 p.m. to 4 p.m. Eastern Daylight Time (EDT).

ADDRESSES: The meeting will be held via teleconference. A call-in number and pass code will be issued upon registration. (See below for registration instructions.)

Public Access: The meeting is open to the public. (See below for registration instructions.)

Public Comments: Persons wishing to offer written comments and suggestions concerning the activities of the advisory committee or subcommittee should file comments in the Public Docket (Docket Number DOT-OST-2010-0074 at http://www.Regulations.Gov) or alternatively through the FAAC@dot.gov e-mail. If comments and suggestions are intended specifically for the Subcommittee on Labor and World-class Workforce, the term “Labor/Workforce” should be listed in the subject line of the message. In order to ensure that such comments can be considered by the subcommittee before its October 1, 2010, meeting, public comments must be filed by 5 p.m. EDT on Tuesday, September 28, 2010.

SUPPLEMENTARY INFORMATION:

Background

Under section 10(a)(2) of the Federal Advisory Committee Act (5 U.S.C. App. 2), we are giving notice of a meeting of the FAAC Subcommittee on Labor and World-class Workforce taking place on October 1, 2010, from 1 p.m. to 4 p.m. EDT, via teleconference. A call-in number and pass code will be issued upon registration. Background information may be found at the FAAC Web site, located at http://www.dot.gov/faac/. The agenda includes—

1. Discussion of topics selected by subcommittee members on the subject of labor and improving the workforce of the aviation industry.

2. Establishment of a plan and timeline for further work.

3. Identification of priority issues for the fifth subcommittee meeting.

Registration

The telephone conference can accommodate up to 50 members of the public. Persons desiring to listen to the discussion must pre-register through e-mail to FAAC@dot.gov. The term “Registration: Labor/Workforce” must be listed in the subject line of the message, and admission will be limited to the first 50 persons to pre-register and receive a confirmation of their pre-registration.

No arrangements are being made for audio or video transmission or for oral statements or questions from the public at the meeting. Minutes of the meeting will be taken and will be posted on the FAAC Web site at http://www.dot.gov/faac/.

Request for Special Accommodation

The DOT is committed to providing equal access to this meeting for all participants. If you need alternative formats or services because of a disability, please send a request to FAAC@dot.gov with the term “Special Accommodations” listed in the subject line of the message by close of business on Tuesday, September 28, 2010.

FOR FURTHER INFORMATION CONTACT: Terri L. Williams, Acting Executive Director for Strategic Performance and Organizational Success, Office of the Assistant Administrator for Human Resources, Federal Aviation Administration, 800 Independence Avenue, SW., Washington, DC 20591; (202) 267-3456, extension 7472; or Regis P. Milan, Office of Aviation Analysis, U.S. Department of Transportation; Room 86W-309, 1200 New Jersey Avenue, SE., Washington, DC 20590; (202) 366-2349.

Issued in Washington, DC, on September 16, 2010.
Pamela Hamilton-Powell,
Designated Federal Official, Future of Aviation Advisory Committee.

[FR Doc. 2010-23503 Filed 9-20-10; 8:45 am]

BILLING CODE P